DEPARTMENT OF HEALTH AND HUMAN SERVICES

National Institutes of Health

Eunice Kennedy Shriver National Institute of Child Health and Human Development; Notice of Meeting

Pursuant to section 10(a) of the Federal Advisory Committee Act, as amended (5 U.S.C. App.), notice is hereby given of a meeting of the National Advisory Board on Medical Rehabilitation Research.

The meeting will be open to the public, with attendance limited to space available. Individuals who plan to attend and need special assistance, such as sign language interpretation or other reasonable accommodations, should notify the Contact Person listed below in advance of the meeting.

Name of Committee: National Advisory Board on Medical Rehabilitation Research.

Date: December 3-4, 2018.

Time: December 3, 2018, 9:00 a.m. to 5:00 p.m.

Agenda: NICHD Director's report; NCMRR Updates; NCATS Support for Research Infrastructure; NIH Research Plan on Rehabilitation; NINDS Stroke Translation Research; Limb Loss Research.

Place: NICHD Offices, 6710B Rockledge Drive, Rooms 1425/1427, Bethesda, MD 20892.

Time: December 4, 2018, 8:30 a.m. to 12:00 p.m.

Agenda: NIH BRAIN Initiative; Dissemination and Implementation Research; CDC: Health and Disability; Scientific Presentation on Activity and Participation.

Place: NICHD Offices, 6710B Rockledge Drive, Rooms 1425/1427, Bethesda, MD 20892.

Contact Person: Ralph M. Nitkin, Ph.D., Deputy Director, National Center for Medical Rehabilitation Research (NCMRR), Eunice Kennedy Shriver National Institute of Child Health and Human Development, NIH, DHHS, 6710B Rockledge Drive, Room 2116, MSC 7002, Bethesda, MD 20892, (301) 402-4206, RN21e@nih.gov.

Information is also available on the Institute's/Center's home page: http://www.nichd.nih.gov/about/advisory/nabmrr/Pages/index.aspx where the current roster and minutes from past meetings are posted.

The Board meeting will be videocast out to the public and will be archived for later viewing at: https://videocast.nih.gov/.

(Catalogue of Federal Domestic Assistance Program Nos. 93.864, Population Research; 93.865, Research for Mothers and Children; 93.929, Center for Medical Rehabilitation Research; 93.209, Contraception and Infertility Loan Repayment Program, National Institutes of Health, HHS)

Dated: October 15, 2018.
Ronald J. Livingston, Jr.,
Program Analyst, Office of Federal Advisory Committee Policy.

[FR Doc. 2018-22724 Filed 10-17-18; 8:45 am]

BILLING CODE 4140-01-P